DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of a currently approved collection. The ICR describes the nature of each of the information collection and the expected burden. The Federal Register Notice with a 60-day comment period soliciting comments on the following collections of information was published on May 9, 2000, (FR 65, pages 26871-26872).

DATES: Comments must be submitted on or before September 1, 2000. A comment to OMB is most effective if OMB receives it within 30 days of publication.

FOR FURTHER INFORMATION CONTACT: Judy Street on (202) 267-9895.

SUPPLEMENTARY INFORMATION:

Federal Aviation Administration (FAA).

Title: Passenger Facility Charge (PFC) Application.

Type of Request: Extension of a currently approved collection.

OMB Control Number: 2120-0557.

Forms(s) FAA Form 5500-1.

Affected Public: 450 respondents.

Abstract: 49 U.S.C. 40117 authorizes airports to impose passenger facility charges (PFC). The final rule (14 CFR part 158) implementing this Act was effective June 28, 1991. Changes have been made to this form to reflect those changes made to the statute by the Wendell H. Ford Aviation Investment and Reform Act for the 21st Century (Pub. L. 1060181, April 5, 2000). This program requires public agencies and certain members of the aviation industry to prepare and submit applications and reports to the Dot/FAA. This program provides additional funding for airport development which is needed now and in the future.

Estimated Annual Burden Hours: 26,592 burden hours annually.

Issued in Washington, DC, on July 25, 2000.
Patricia W. Carter,
Acting Manager, Standards and Information Division, APF-100.

[FR Doc. 00-19532 Filed 8-1-00; 8:45 am]

BILLING CODE 4910-13-M